NATIONAL AERONAUTICS AND SPACE ADMINISTRATION

[Notice 00-070]

Notice of Prospective patent license

AGENCY: National Aeronautics and Space Administration.

ACTION: Notice of prospective patent license.

SUMMARY: NASA hereby gives notice that Diebold, Inc., of North Canton, Ohio, has applied for an exclusive license to practice the invention described and claimed in: U.S. Patent No. 5,539,454, entitled “Video Event Trigger and Tracking System Using Fuzzy Logic Comparators,” which has been assigned to the United States of America as represented by the Administrator of the National Aeronautics and Space Administration. Written objections to the prospective grant of a license should be sent to the NASA Glenn Research Center.

DATES: Responses to this notice must be received by August 18, 2000.

FOR FURTHER INFORMATION CONTACT: Kent N. Stone, Patent Attorney, John H. Glenn Research Center, Mail Code 500-118, 2100 Brookpark Road, Cleveland, Ohio 44135-3191; telephone (216) 433-8855.

Dated: June 8, 2000.
Edward A. Frankle,
General Counsel.

[FR Doc. 00-15327 Filed 6-16-00; 8:45 am]

BILLING CODE 7510-01-P